TENNESSEE VALLEY AUTHORITY

Sunshine Act; Notice of Meeting

Agency Holding the Meeting: Tennessee Valley Authority (Meeting No. 1548).

Time and Date: 9 a.m. (EST), November 5, 2003, Fogelman Executive Conference Center Auditorium, Memphis, Tennessee.

Status: Open.

Agenda

Approval of minutes of meeting held on August 27, 2003.

New Business

A—Budget and Financing

A1. Approval of tax-equivalent payments for Fiscal Year 2003 and estimated payments for Fiscal Year 2004.

A2. Delegation of authority to the Chief Financial Officer; Executive Vice President, Customer Service and Marketing; Senior Vice President and Treasurer; and designees to enter into an arrangement for a $1.5 billion prepayment transaction with Memphis Light, Gas and Water Division.

C—Energy

C1. Contracts with Page Clearing Contractors and Crisp & Crisp, Inc., for clearing of right-of-way areas for new transmission line construction.

C2. Supplement to contract with CBP Engineering Corporation for piping, flanges, fittings, and services for any TVA fossil plant.

C3. Contract with Underwater Construction Corporation for diving services at TVA facilities.

C4. Delegation of authority to the Executive Vice President, Fossil Power Group, to enter into term coal contracts with Alliance Coal LLC; Resource Sales, Inc.; and SCB LLC for coal supply to Paradise Fossil Plant.

E—Real Property Transactions

E1. Grant of a permanent easement to the Colbert County Commission for a bridge improvement project, affecting approximately 0.3 acre of land on Pickwick Reservoir in Colbert County, Alabama, Tract No. XTPR-70H.

E2. Sale of a noncommercial, nonexclusive permanent easement to Tim Cormier for construction and maintenance of recreational water-use facilities, affecting approximately 0.3 acre of land on Tellico Reservoir in Monroe County, Tennessee, Tract No. XTELR-244RE.

E3. Grant of a permanent easement to the Town of Grant, Alabama, for a wastewater discharge line, affecting approximately 1.4 acres of land on Guntersville Reservoir, Marshall County, Alabama, Tract No. XTGR-173P.

E4. Sale of a permanent easement to Thomas Saint for a road access, affecting approximately 0.06 acre of land on Guntersville Dam Reservation in Marshall County, Alabama, Tract No. XGR-758H.

E5. Abandonment of certain transmission line easement rights to Southern Services of Tennessee LLC, affecting approximately 9.3 acres, Tract Nos. KN-397 and KN-398, in exchange for transmission line easement rights affecting approximately 14.1 acres in Davidson County, Tennessee, Tract Nos. 2KNR-3 and 2KNR-6.

E6. Modification of certain deed restrictions to allow for fill and a portion of a house to remain on the David W. and Gina M. Sakich property, affecting 0.2 acre of former TVA land on Chickamauga Reservoir in Hamilton County, Tennessee, Tract No. XCR-415, S.2X.

E7. Consent to a land sale by the U.S. Department of Agriculture, Forest Service, to Dan Livorsi, affecting approximately 0.76 acre of former TVA land on Watauga Reservoir in Johnson County, Tennessee, Tract No. XTWAR-11.

F—Other

F1. Approval to file condemnation cases to acquire easements and rights-of-way for TVA power transmission line projects affecting the Basin-Toccoa Transmission Line in Polk County, Tennessee, and Fannin County, Georgia, and the West Sparta-Sparta District Transmission Line in White County, Tennessee.

Information Items

1. Approval of a blanket contract with Ashley Sling, Inc., for wire rope, slings, and fittings at any TVA location.

2. Approval of a supplement to TVA's cooperative agreement with the State of Alabama for the operation and maintenance of radiological emergency plans.

3. Approval of a supplement to the contract with Retiree Resources Corporation for staff augmentation services.

4. Approval of a supplement to the contract with Shook and Fletcher Insulation Company for insulation materials and related products.

5. Approval of a supplement to the contract with Bulwark/VF Workwear, Inc., for flame resistant daily-wear clothing.

6. Approval of a contract with Chem-Nuclear Systems, LLC, for disposal of TVA's low-level radioactive waste at the Barnwell site in South Carolina.

7. Approval of revised Dispersed Power Production Guidelines for TVA and distributors of TVA Power.

8. Approval of a contract with American Coal Sales Company for coal supply to Johnsonville Fossil Plant.

9. Approval of contracts with L. E. Myers, Henkels and McCoy, and Dillard Smith for general construction/craft services related to the Transmission/Power Supply Group construction program.

10. Approval of the sale of a 30-year term easement and temporary construction easement to Colonial Pipeline Company for the construction and operation of a refine petroleum pipeline, affecting approximately 5.6 acres of TVA land in Bradley and McMinn Counties, Tennessee, Tract No. XCR-704P

11. Approval to implement the results of negotiations with the Office and Professional Employees International Union over compensation for employees.

12. Amendments to the Rules and Regulations of the TVA Retirement System and to the Provisions of the TVA Savings and Deferral Retirement Plan.

13. Approval to establish a Financial Trading Pilot Program and authorization for TVA to trade certain futures contracts and options on futures contracts solely for the purpose of hedging certain fuel-related price risks.

14. Approval of TVA's contribution to the TVA Retirement System for Fiscal Year 2004.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: October 29, 2003.
Maureen H. Dunn,
General Counsel and Secretary.

[FR Doc. 03-27629 Filed 10-30-03; 10:07 am]

BILLING CODE 8120-08-P